DEPARTMENT OF COMMERCE

National Institute of Standards and Technology

[Docket No. 00609171-0171-01]

RIN 0693-ZA38

Manufacturing Extension Partnership Program

AGENCY: National Institute of Standards and Technology (NIST), Commerce.

ACTION: Notice of availability of funds.

SUMMARY: The National Institute of Standards and Technology invites proposals from qualified organizations for funding projects to provide manufacturing extension services to small- and medium-size manufacturers in the United States. These projects correspond to the Manufacturing Technology Centers component of the Manufacturing Extension Partnership (MEP). This competition is for the expansion of manufacturing extension service capacity within 2 discrete geographic areas in the United States. The first area encompasses the entirety of the state of Indiana. The second area encompasses 17 counties in the Southeast Ohio area; Athens, Delaware, Fairfield, Fayette, Franklin, Hocking, Licking, Logan, Madison, Meigs, Monroe, Morgan, Noble, Perry, Pickaway, Union, and Washington. The competition is open to all organizations meeting the eligibility requirements provided herein. This includes existing MEP manufacturing extension centers.

Manufacturing extension centers must be affiliated with a U.S.-based not-for-profit institution or organization. MEP interprets not-for-profit organizations to include universities and state and local governments. Applicants are required to provide 50% or more of the operating cost for providing these manufacturing extension services in year 1 through 3 and an increasing percentage in year 4, and in year 5 and beyond.

DATES: Proposals from qualified applicants must be received at the address below by no later than 5 p.m. Eastern Standard Time (September 5, 200). Selection of awards will be made in September 2000.

ADDRESSES: Applicants must submit one signed original and three (3) copies of their proposal along with a Standard Form 424, 424-A, and 424-B (Rev 7/97), Form CD-511 (Rev 7/91), and Form CD-346 to the National Institute of Standards and Technology, Manufacturing Extension Partnership, 100 Bureau Drive, Stop 4800, Building 301, Room C100, Gaithersburg, MD 20899-4800. Plainly mark on the outside of the package it contains a manufacturing extension center proposal.

FOR FURTHER INFORMATION CONTACT: For information regarding this announcement, contact Margaret Phillips of the Manufacturing Extension Partnership by calling (301) 975-5020; or by mailing information requests to the National Institute of Standards and Technology, Manufacturing Extension Partnership, 100 Bureau Drive, Stop 4800, Building 301, Room C100, Gaithersburg, MD 20899-4800. Information packets, which include background materials on MEP, existing centers and the necessary application forms, should be requested via a one page fax sent to (301) 963-6556. Please include name, organization, mailing address, telephone number, and fax number on this request. Information is also available on-line at www.mep.nist.gov.

SUPPLEMENTARY INFORMATION: Catalog of Federal Domestic Assistance Name and Number: The catalog number for the award of Manufacturing Technology Centers funds in the Catalog of Federal Domestic Assistance is 11.611

Background

In accordance with the provisions of Section 5121 of the Omnibus Trade and Competitiveness Act of 1988 (Pub. L. 100-418), codified in 15 U.S.C. 278k, and final rule 15 CFR 290 published September 17, 1990 and amendment published May 2, 1994, NIST will provide assistance for the creation and support of manufacturing extension centers. The objective of these centers is to enhance productivity, technological performance, and strengthen the global competitiveness of small- and medium-sized U.S.-based manufacturing firms.

These manufacturing extension centers will become part of the MEP national system of extension service providers. Currently, the MEP national system consists of over 400 centers and field offices located throughout the United States and Puerto Rico. Information regarding MEP and these centers is provided in the information packet that can be obtained as explained above or on-line at www.mep.nist.gov.

Funding Availability

It is anticipated that approximately $1,500,000 will be available to support manufacturing extension centers under this program. The funding level for individual awards is not prescribed. The funding requested by the applicant should be directly related to the level of activity of the center, which is a function of the number of manufacturers in the designated service region, and to the availability of applicant-provided cash and in-kind contributions to be used as cost share.

Invitation for Proposals

Proposals must be received at the address listed above by September 5, 2000.

Award Period

The projects awarded under this program will have a budget and performance period of one year. These projects may be renewable on an annual basis subject to the review requirements described in 15 CFR 290.8, but only if additional funding is allocated to this program by Congress beyond Federal fiscal year 2000. Renewal of these projects shall be at the sole discretion of NIST and shall be based upon satisfactory performance, priority of the need for the service, existing legislative authority, and availability of funds. Although the MEP regulation (15 CFR Part 290) indicates that Centers are not eligible for MEP funding after six years, this requirement is no longer in effect. Public Law 105-239 amended the MEP's organic legislation to authorize MEP to fund Centers for more that six years under specified circumstances.

Cost Share Requirements

A cost sharing contribution from the applicant is required. The applicant must provide 50% or more of the total capital, operating and maintenance costs for the center for years 1 through 3. The applicant's cost share requirement increases to 60% or more in year 4 and 66⅔% or more in years 5 and beyond. The applicant's share of the center expenses may include cash and in-kind contributions. However, at least 50% of the applicant's total cost share (cash plus in-kind) must be in cash. The source of the cost share, both cash and in-kind, must be documented in the budget submitted in the proposal.

In all cases, a contribution will only be treated as cash cost share if the center director has suitable authority and discretion to control its expenditure. Acceptable cash cost share, which must come from non-federal sources, includes”:

—Dollar contributions from state, county, city, industrial or other sources

—Income from fees charged for services performed

—Revenue from licensing, royalties, dividends, and capital gains

—Contributions of full-time personnel from other organizations

—Other contributions as approved by NIST

To qualify as in-kind cost share, the claimed items must be directly related to the tasks to be accomplished and must be utilized solely for the center activities or the cost share must be prorated based upon the percentage of time they are used for these activities. Acceptable in-kind cost share includes:

—Contributions of full-time personnel for which the center director lacks suitable authority and discretion to qualify as cash cost share

—Contributions of part-time personnel from other organizations

—Contributions of equipment, software, rental value of office, laboratory or other space

—Other contributions as approved by NIST

In addition, recipients are required to comply with the regulations found at 15 CFR 14.23.

Proposal Content

The proposal must, at a minimum, include the following:

A. An executive summary of the proposed project, consistent with the Evaluation Criteria stated in this notice.

B. A description of the proposed project, sufficient to permit evaluation of the proposal, in accordance with the proposal Evaluation Criteria stated in this notice.

C. A detailed budget for the proposed project which breaks out all expenses for year 1 of operation and identifies all sources of funds to pay these expenses.

D. A budget outline for annual costs and sources of funds for potential years 2 through 5 and beyond. It is expected, especially for newly created centers, that year one costs are lower because of a ramp-up of operations from start-up to the point where the center is fully operational and services are being provided. If such a ramp-up of operations is to occur, this should be reflected in the budget outline for years 2 through 5 and beyond. A detailed budget and budget narrative will be required prior to each of years 2 through 5.

E. A description of the qualifications of key personnel who will be assigned to work on the proposed project.

F. A statement of work that discusses the specific tasks to be carried out, including a schedule of measurable events and milestones.

G. A Standard Form 424, 424-A, and 424-B (Rev 7/97) prescribed by 15 CFR 14 (OMB Circular A-110), Form CD-511, Certification Regarding Debarment, Suspension and Other Responsibility Matters; Drug-Free Workplace Requirements and Lobbying, and Form CD-346, Applicant For funding Assistance/Name Check. The 424 and CD series of forms will not be considered part of the page count of the proposal.

In addition, the proposal must contain the requirements identified in 15 CFR 290.5(a)(3), which are:

A. A plan for the allocation of intellectual property rights associated with any invention or copyright which may result from the involvement in the Center's technology transfer or research activities consistent with the conditions of 15 CFR 290.9.

B. A statement which provides adequate assurances that the host organization will contribute the required cost share, 50 percent or more of the proposed Center's capital and annual operating and maintenance costs for the first three years and an increasing share for each of the following three additional years. (Although the MEP regulation, 15 CFR 290.5(a)(3)(ii), states that applicants should provide evidence that the proposed Center will be self-supporting after six years, this requirement is no longer in effect, as indicated above.)

C. A statement describing linkages to industry, government, and educational organizations within its service region.

D. A statement defining the initial service region including a statement of the constituency to be served and the level of service to be provided, as well as outyear plans.

E. A statement agreeing to focus the mission of the Center on technology transfer activities and not to exclude companies based on state boundaries.

F. A proposed plan for the annual evaluation of the success of the Center by the Program, including appropriate criteria for consideration, and weighting of those criteria.

G. A plan to focus the Center's technology emphasis on areas consistent with NIST technology research programs and organizational expertise.

H. A description of the planned Center sufficient to permit NIST to evaluate the proposal in accordance with section 290.6 of the MEP regulations.

Proposal Format

The proposal must not exceed 25 typewritten pages in length. The proposal must contain both technical and cost information. The proposal page count shall include every page, including pages that contain words, table of contents, executive summary, management information and qualifications, resumes, figures, tables, and pictures. All proposals shall be printed such that pages are single-sided, with no more than fifty-five (55) lines per page. Use 21.6 x 27.9 cm (8½″ x 11″) paper or A4 metric paper. Use an easy-to-read font of not more than about 5 characters per cm (fixed pitch font of 12 or fewer characters per inch or proportional font of point size 10 or larger). Smaller type may be used in figures and tables, but must be clearly legible. margins on all sides (top, bottom, left and right) must be at least 2.5 cm. (1″). The applicant may submit a separately bound document of appendices containing other supporting information. The proposal should be self-contained and not rely on the appendices for meeting criteria. Excess pages in the proposal will not be considered in the evaluation. Applicants must submit one signed original plus three (3) copies of the proposal.

Manufacturing Extension Centers

a. Project Objective

The objective of the projects funded under this program is to provide manufacturing extension services to small- and medium-sized manufacturers in the United States. These services are provided through the coordinated efforts of a regionally-based manufacturing extension center and local technology resources. The management and operational structure of the manufacturing extension center is not prescribed, but should be based upon the characteristics of the manufacturers in the region and locally available resources. The center should include plans for integration into the MEP national system and linkages to appropriate national resources.

The focus of the center is to provide those manufacturing extension services required by the small- and medium-sized manufacturers in their service region using the most cost effective sources for those services. It is not the intent of the is program that centers perform research and development.

b. Evaluation Criteria

All qualified proposals will be evaluated and rated on the basis of the following criteria by an impartial review panel. Each proposal should address all four evaluation criteria, which are assigned equal weighting.

(1) Identification of Target Firms in Proposed Regions. Does the proposal define an appropriate service region with a large enough population of target firms of small- and medium-sized manufacturers that the applicant understands and can serve, and which is not presently served by an existing center?

(i) Market Analysis. Demonstrated understanding of the service region's manufacturing base, including business size, industry types, product mix, and technology requirements.

(ii) Geographical Location. Physical size, concentration of industry, and economic significance of the service region's manufacturing base. Geographical diversity of the centers will be a factor in evaluation of proposals; a proposal for a center located near an existing center may be considered only if the proposal is unusually strong and the population of manufacturers and the technology to be addressed justify it.

(2) Technology Resources. Does the proposal assure strength in technical personnel and programmatic resources, full-time staff, facilities, equipment, and linkages to external sources of technology?

(3) Technology Delivery Mechanisms. Does the proposal clearly and sharply define an effective methodology for delivering advanced manufacturing technology to small- and medium-sized manufacturers?

(i) Linkages. Development of effective partnerships or linkages to third parties such as industry, universities, nonprofit economic organizations, and state governments who will amplify the center's technology delivery to reach a large number of clients in its service region.

(ii) Program Leverage. Provision of an effective strategy to amplify the center's technology delivery approaches to achieve the proposed objectives as described in 15 CFR 290.3(e).

(4) Management and Financial Plan. Does the proposal define a management structure and assure management personnel to carry out development and operation of an effective center?

(i) Organizational Structure. Completeness and appropriateness of the organizational structure, and its focus on the mission of the center. Assurance of full-time top management of the center.

(ii) Program Management. Effectiveness of the planned methodology of program management.

(iii) Internal Evaluation. Effectiveness of the planned continuous internal evaluation of program activities.

(iv) Plans for Financial Matching. Demonstrated stability and duration of the applicants funding commitments as well as the percentage of operating and capital costs guaranteed by the applicant. Identification of matching fund sources and the general terms of the funding commitments.

(v) Budget. Suitability and focus of the applicant's detailed one-year budget and budget outline for years 2-5 and beyond.

Eligibility Criteria

• Eligible applicants for these projects must be affiliated with a non-profit institution or organization and may be consortia of non-profits institutions.

• The applicant must provide the necessary cost share as specified above.

Proposal Selection Process

Proposal evaluation and selection will consist of four principal phases: proposal qualification, proposal review, site visits and award determination.

a. Proposal Qualification

All proposals will be reviewed by NIST to assure compliance with the proposal content as described in 15 CFR 290.5 and other basic provisions of this notice. Proposals that satisfy these requirements will be designated as qualified proposals. Non-qualified proposals will not be evaluated and will be returned to the applicant.

b. Proposal Review

NIST will appoint an evaluation panel, consisting of one non-Federal Government employee and at least two Federal Government employees, to conduct an independent and objective review and evaluation of all qualified proposals in accordance with the evaluation criteria set forth in this notice. Based upon this review, the panel will deliberate, and each panelist will rank the proposals based on the scores in relation to the evaluation criteria, as a basis for selecting a group of finalists to be site visited.

c. Site Visits

Finalists will be notified and a day, time, and location for a site visit will be established. The panel will review finalists again on site, based on the evaluation criteria. Subsequently, the panel will deliberate again, and each panelist will rank the proposals again by assigning numeric scores based on the evaluation criteria, assessing equal weight to each of the four criteria. Based upon this rank scores, the panel will submit recommendations to the Director of NIST, or a designee, for final award recommendation to the NIST Grants Officer.

d. Award Determination

The Director of NIST, or a designee, shall make final recommendation of whether an award should be made to the proposing organization based on a review of the panel's adherence to program objectives and program procedures. The final approval of the selected applications and award of cooperative agreements will be made by the NIST Grants Officer based on compliance with program requirements and whether the recommended applicants appear competently managed, responsible, and committed to achieving project objectives. The decision of the Grants Officer is final.

Paperwork Reduction Act

The Standard Form 424 and other Standard Forms in this application kit are subject to the Paperwork Reduction Act and have been approved by OMB under Control Numbers 0348-0043, 0348-0044, 0038-0040, and 0348-0046. Proposals are subject to the requirements of the Paperwork Reduction Act and have been approved by OMB under Control Number 0693-0032.

Notwithstanding any other provision of law, no person is required to respond to, nor shall any person be subject to a penalty for failure to comply with a collection, subject to the requirements of the Paperwork Reduction Act, unless that collection of information displays a currently valid OMB Control Number.

Additional Requirements

(a) Federal Policies and Procedures. Recipients and sub-recipients are subject to all Federal laws and Federal and NIST policies, regulations, and procedures applicable to Federal financial assistance awards, including 15 CFR Part 14, Uniform Administrative Requirements for Grants and Agreements with Institutions of Higher Education, Hospitals, Other Non-Profit, and commercial Organizations.

(b) Indirect Costs. Regardless of any approved indirect cost rate applicable to the award, the maximum amount of the indirect costs for which DOC will reimburse the recipient shall be the lesser of:

(1) The Federal share of the total allocable indirect costs of based on the negotiated rate with the cognizant Federal agency as established by audit or negotiation; or

(2) The line item amount for the Federal share of indirect costs dollar contained in the approved budget of the award.

(c) Pre-award Activities. Applicants (or their institutions) who incur any costs prior to an award being made do so solely at their own risk of not being reimbursed by the Government.

Notwithstanding any verbal assurance that may have been received, there is no obligation on the part of NIST to cover pre-award costs.

(d) Delinquent Federal Debts. No award of Federal funds shall be made to an applicant who has an outstanding delinquent Federal debt until either:

(1) The delinquent account is paid in full;

(2) A negotiated repayment schedule is established and at least one payment is received; or

(3) Other arrangements satisfactory to NIST are made.

(e) Past Performance. Unsatisfactory performance under prior Federal awards may result in an application not being considered for funding.

(f) Name Check Review. All non-profit applicants will be subject to a name check review process. Name checks are intended to reveal if any key individuals associated with the applicant have been convicted of or are presently facing criminal charges such as fraud, theft, perjury, or other matters which significantly reflect on the applicant's management honesty or financial integrity. Form CD-346 must be completed for all personnel with key programmatic or fiduciary responsibilities.

(g) Primary Applicant Certification. All primary applicants must submit a completed Form CD-511, “Certifications Regarding Debarment, Suspension and Other Responsibility Matters; Drug-Free Workplace Requirements and Lobbying,” and the following explanations must be provided.

(1) Non Procurement Debarment and Suspension. Prospective participants (as defined at 15 CFR Part 26, Section 105) are subject to 15 CFR Part 26, “Nonprocurement Debarment and Suspension” and the related section of the certification form prescribed above applies;

(2) Drug-free Workplace. Recipients (as defined at 15 CFR Part 26, Section 605) are subject to 15 CFR Part 26, Subpart F, “Government-wide Requirements for Drug-Free Workplace (Grants)” and the related section of the certification form prescribed above applies;

(3) Anti-lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and load guarantees for more than $150,000, or the single family maximum mortgage limit for affected programs, whichever is greater; and

(4) Anti-lobbying Disclosures. Any application that has paid or will pay for lobbying using any funds must submit as SF-LLL, “Disclosure of Lobbying Activities,” as required under 15 CFR Part 28, Appendix B.

(h) Lower Tier Certifications. Recipients shall require applicants/bidders for subgrants, contracts, subcontracts, or other lower tier covered transactions at any tier under the award to submit if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to NIST. SF-LLL submitted by any tier recipient or sub-recipient should be submitted to NIST in accordance with the instructions contained in the award document.

(i) False Statements. A false statement on an application is grounds for denial or termination of funds and grounds for possible punishment by a fine or imprisonment as provided in 18 U.S.C. 1001.

(j) Purchase of American-made Equipment and Products. Applicants are hereby notified that they are encouraged, to the greatest extent practicable, to purchase American-made equipment and products with the funding provided under this program.

(k) North American Free Trade Agreement Patent Notification Procedure. Pursuant to Executive Order 12889, the Department of Commerce (DoC) is required to notify the owner any valid patent covering technology whenever the DoC or its financial assistance recipient, without making a patent search, knows (or has demonstrable reasonable grounds to know) that technology covered by a valid United States patent has been or will be used without a license from the owner. Applicants selected for awards under this program are required to comply with this executive order.

(() intergovernmental Review. Applicants under this program are not subject to the requirements of Executive Order 12372, “Intergovernmental Review of Federal Programs”.

(m) No Obligation for Future Funding. If an application is accepted for funding, DOC has no obligation to provide any additional future funding in connection with that award. Renewal of an award to increase funding or extend the period of performance is at the total discretion on NIST.

Program Execution

(a) Type of Funding Instrument. The formal agreement between NIST and the applicant will be in the form of a cooperative agreement. Under this agreement, the NIST MEP will have substantial interactions with the applicant in planning and executing this project. This will include the following:

—Assistant in developing required plans

—Providing access to standard manufacturing extension and related tools

—Facilitating partnering with appropriate organizations both within and outside of the MEP national system

—Defining measures for evaluation of performance

—Direct involvement in helping to understanding, define, and resolve problems in the center's operations

(b) Operating Plan. All recipients of awards are required to submit an Operating Plan within ninety (90) days of the project start date. The Operating Plan is a more detailed statement of work based on project objectives and activities the applicant will undertake to achieve the objectives and incorporates recommendations provided by the evaluation panel and the NIST Program Officer. The Operating Plan must be reviewed and approved by NIST and will be incorporated into the cooperative agreement by amendment. Operating Plan guideline will be distributed to award recipients.

(c) Project Reporting. Quarterly reports will be submitted to the NIST Program Officer no later than thirty (30) days after the end of each quarter of the award year. The information provided is used to characterize the projects, develop detailed case studies, and evaluate individual examples of outcomes. Quarterly reporting instructions will be distributed to award recipients.

Executive Order Statement

This funding notice was determined to be “not significant” for purposes of Executive Order 12866.

Dated: June 29, 2000.
Raymond G. Kammer,
Director.

[FR Doc. 00-17085 Filed 7-5-00; 8:45 am]

BILLING CODE 3510-13-M